DEPARTMENT OF TRANSPORTATION

Federal Railroad Administration

[Docket Number FRA-2003-15010]

Notice of Petition for Extension of Waiver of Compliance

AGENCY: Federal Railroad Administration (FRA), Department of Transportation (DOT).

ACTION: Notice.

SUMMARY: This document provides the public notice that Canadian Pacific Kansas City Limited (CPKC) petitioned FRA for relief from certain regulations concerning extraterritorial dispatching.

DATES: FRA must receive comments on the petition by July 7, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Curtis Dolan, Railroad Safety Specialist, FRA Motive Power & Equipment Division, telephone: 334-274-6354, email: curtis.dolan@dot.gov.

SUPPLEMENTARY INFORMATION: Under part 211 of title 49 Code of Federal Regulations (CFR), this document provides the public notice that by letter received March 18, 2025, CPKC petitioned FRA for an extension of a waiver of compliance from certain provisions of the Federal railroad safety regulations contained at 49 CFR part 241 (United States Locational Requirements for Dispatching of United States Rail Operations). FRA assigned the petition Docket Number FRA-2003-15010.

CPKC requests relief from 49 CFR 241.7(c), Fringe border dispatching, to allow the continuation of Canadian dispatching of three locations in the U.S.: (1) 1.8 miles of the Windsor Subdivision between Windsor, Ontario, Canada, and Detroit, Michigan, U.S.; ¹ and (2) two track segments totaling 23.44 miles on the Newport Subdivision between Richford, Vermont, and East Richford, Vermont, U.S., and between North Troy, Vermont, and Newport, Vermont, U.S.² CPKC notes that all locations are dispatched by the Operations Centre in Calgary, Alberta, Canada. In support of its request, CPKC states that “in the approximately twenty-two years since the original waiver was granted, CPKC has operated safely on the Windsor Subdivision and has operated safely on the Newport Subdivision since the acquisition of this territory in 2020.” CPKC adds that there have not been “substantial change[s] to operating practices, programs or procedures.” CPKC provided with its petition copies of certain policies and procedures, such as operating rules and alcohol and drug procedures, that were updated since CPKC's February 28, 2024, renewal request.

¹ This section on the Windsor Subdivision is defined in appendix A to part 241, List of Lines Being Extraterritorially Dispatched in Accordance with the Regulations Contained in 49 CFR part 241, Revised as of October 1, 2002.

² The track segments on the Newport Subdivision cross the U.S./Canada border at three separate locations.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by July 7, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-10204 Filed 6-4-25; 8:45 am]

BILLING CODE 4910-06-P